DEPARTMENT OF TRANSPORTATION

Pipeline and Hazardous Materials Safety Administration

Notice of Applications for Modification of Special Permit

AGENCY: Pipeline and Hazardous Materials Safety Administration (PHMSA), DOT.

ACTION: List of applications for modification of special permits.

SUMMARY: In accordance with the procedures governing the application for, and the processing of, special permits from the Department of Transportation's Hazardous Material Regulations (49 CFR Part 107, Subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before March 10, 2011.

ADDRESS COMMENTS TO: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, Southeast, Washington, DC or at http://regulations.gov.

This notice of receipt of applications for modification of special permit is published in accordance with Part 107 of the Federal hazardous materials transportation law (49 U.S.C. 5117(b); 49 CFR 1.53(b)).

Issued in Washington, DC, on February 14, 2011.
Donald Burger,
Chief, Special Permits and Approvals Branch.

MODIFICATION SPECIAL PERMITS
Application No. | Docket No. | Applicant | Regulations affected | Nature of special permits thereof
8723-M |  | Maine Drilling & Blasting, Auburn, NH | 49 CFR 172.101; 173.62; 173.242; 176.83; 177.848 | To modify the special permit to authorize additional cargo tanks without internal self-closing shutoff valves.
12929-M |  | Matheson Tri-Gas, Inc., Basking Ridge, NJ | 49 CFR 173.301(j)(1) | To authorize the transportation in commerce of charged DOT specification cylinders, UN specification cylinders and foreign cylinders with alternative pressure relief device configurations.
14584-M |  | WavesinSolids LLC, State College, PA | 49 CFR 173.302 and 180.209 | To modify the special permit to authorize additional cylinders and to allow cylinders to be charged to 110 percent of the usual settled filled pressure or 110 percent of the stamped service service pressure (whichever is greater) and to extend the retest period from 5 years to 10.
15073-M |  | Utility Aviation, Inc., Loveland, CO | 49 CFR 172.101 Column (9B), 172.204(c)(3), 173.27(b)(2), 175.30(a)(1), 172.200, 172.300 and 172.400 | To modify the special permit to authorize the transportation in commerce of an additional Class 8 hazardous material.

[FR Doc. 2011-3796 Filed 2-22-11; 8:45 am]

BILLING CODE 4909-60-M